ENVIRONMENTAL PROTECTION AGENCY

[FRL-8570-8]

Science Advisory Board Staff Office; Clean Air Scientific Advisory Committee (CASAC); Notification of Public Advisory Committee Meetings (Teleconferences) of the CASAC Lead Review Panel

AGENCY: Environmental Protection Agency (EPA).

ACTION: Notice.

SUMMARY: The Environmental Protection Agency (EPA) Science Advisory Board (SAB) Staff Office announces a public teleconference meeting of the Clean Air Scientific Advisory Committee's (CASAC) Lead Review Panel (Panel) to provide comments concerning EPA's proposed rule for the revision of the National Ambient Air Quality Standard (NAAQS) for Lead (May 1, 2008) and a follow-on public teleconference meeting for the CASAC Panel to review the draft letter to the EPA Administrator and for the chartered CASAC to approve the letter.

DATES: Public teleconference meetings of the CASAC Lead Review Panel will be held on Monday, June 9, 2008 from 1 p.m. to 5 p.m. (Eastern Time) and on Tuesday, July 8, 2008 from 1 p.m. to 4 p.m. (Eastern Time).

FOR FURTHER INFORMATION CONTACT: Any member of the public who wishes to obtain the teleconference call-in numbers and access codes; submit a written or brief oral statement (three minutes or less); or receive further information concerning this teleconference meeting, must contact Mr. Fred Butterfield, CASAC Designated Federal Officer (DFO). Mr. Butterfield may be contacted at the EPA Science Advisory Board (1400F), U.S. Environmental Protection Agency, 1200 Pennsylvania Avenue, NW., Washington, DC 20460; or via telephone/voice mail: 202-343-9994; fax: 202-233-0643; or e-mail at: butterfield.fred@epa.gov. General information concerning the CASAC can be found on the EPA Web site at: http://www.epa.gov/casac.

SUPPLEMENTARY INFORMATION: Background: The CASAC, which is comprised of seven members appointed by the EPA Administrator, was established under section 109(d)(2) of the Clean Air Act (CAA or Act) (42 U.S.C. 7409) as an independent scientific advisory committee. The CASAC provides advice, information and recommendations on the scientific and technical aspects of issues related to air quality criteria and NAAQS under sections 108 and 109 of the Act. The CASAC is chartered under the Federal Advisory Committee Act (FACA), as amended, 5 U.S.C., App. The CASAC Lead Review Panel consists of the seven members of the chartered CASAC supplemented by subject-matter-experts. The CASAC Lead Review Panel provides advice and recommendations to EPA concerning lead in ambient air. The CASAC Panel complies with the provisions of FACA and all appropriate SAB Staff Office procedural policies.

Section 109(d)(1) of the CAA requires that the Agency periodically review and revise, as appropriate, the air quality criteria and the NAAQS for the “criteria” air pollutants, including lead. In December 2007, the CASAC Panel met to review the Agency's Advance Notice of Proposed Rulemaking (ANPR) on the NAAQS for Lead. In addition, the Panel also reviewed EPA's Final Lead Staff Paper and the Final Lead Risk Assessment. The CASAC's letter to the Administrator from that meeting (EPA-CASAC-08-007, dated January 22, 2008) is posted on the CASAC's Web site at: http://www.epa.gov/casac. On May 1, 2008, the Agency released the proposed rule for the revision of the NAAQS for Lead. The proposed rule and supplemental materials can be accessed from the “Regulatory Actions” page for the Lead NAAQS found on EPA's Web site at URL: http://epa.gov/air/lead/actions.html. This proposed rule is scheduled for publication in the Federal Register on or about May 21, 2008.

The purpose of the public teleconference meeting on June 9, 2008 is for the CASAC Panel to provide comments concerning the proposed rule for the revision of the NAAQS for lead. The purpose of the public teleconference meeting on July 8, 2008 is for the CASAC Panel to review the draft letter to the EPA Administrator and for the chartered CASAC to approve the letter.

Technical Contact: Any questions concerning the Agency's proposed rule for the revision of the NAAQS for lead should be directed to Dr. Deirdre Murphy, Health and Environmental Impacts Division, EPA's Office of Air Quality Planning and Standards (OAQPS), at phone: 919-541-0729, or e-mail: murphy.deirdre@epa.gov.

Availability of Meeting Materials: The draft agendas and other materials for these public teleconference meetings of the CASAC Panel will be posted on the CASAC's Web site at: http://www.epa.gov/casac prior to the meetings.

Procedures for Providing Public Input: Interested members of the public may submit relevant written or oral information for the CASAC Lead Review Panel to consider on the topics included in this advisory activity and/or the group conducting the activity. Oral Statements: In general, individuals or groups requesting an oral presentation at a public teleconference meeting will be limited to three minutes per speaker, with no more than a total of 30 minutes for all speakers. Interested parties should contact Mr. Butterfield, CASAC DFO, in writing (preferably via e-mail), by June 2, 2008, at the contact information noted above, to be placed on the list of public speakers for the June 9 public teleconference meeting of the CASAC Panel; and by July 1, 2008 to be placed on the list of public speakers for the CASAC Panel's July 8 public teleconference meeting. Written Statements: Written statements for the June 9 public teleconference meeting should be received in the SAB Staff Office by June 5, 2008, so that the information may be made available to the CASAC Panel for its consideration prior to this teleconference. Written statements for the July 8 public teleconference meeting should be received in the SAB Staff Office by July 3, 2008, so that the information may be made available to the CASAC Panel in advance of this teleconference. Written statements should be supplied to the Mr. Butterfield electronically via e-mail (acceptable file formats: Adobe PDF, MS Word, WordPerfect, MS PowerPoint, or Rich Text files in IBM-PC/Windows 98/2000/XP/Vista format).

Accessibility: For information on access or services for individuals with disabilities, please contact Mr. Butterfield at the phone number or e-mail address noted above, preferably at least ten days prior to the meeting, to give EPA as much time as possible to process your request.

Dated: April 15, 2008.
Anthony F. Maciorowski,
Deputy Director, EPA Science Advisory Board Staff Office.

[FR Doc. E8-11606 Filed 5-22-08; 8:45 am]

BILLING CODE 6560-50-P